SECURITIES AND EXCHANGE COMMISSION

Sunshine Act Meeting

FEDERAL REGISTER CITATION OF PREVIOUS ANNOUNCEMENT: [75 FR 51854, August 23, 2010]

STATUS: Closed Meeting.

PLACE: 100 F Street, NE., Washington, DC.

DATE AND TIME OF PREVIOUSLY ANNOUNCED MEETING: Thursday, August 26, 2010 at 2 p.m.

CHANGE IN THE MEETING: Additional Item.

The following item has been added to the Thursday, August 26, 2010 Closed Meeting agenda: Consideration of amicus participation.

Commissioner Paredes, as duty officer, determined that Commission business required the above change.

At times, changes in Commission priorities require alterations in the scheduling of meeting items. For further information and to ascertain what, if any, matters have been added, deleted or postponed, please contact the Office of the Secretary at (202) 551-5400.

Dated: August 23, 2010.
Elizabeth M. Murphy,
Secretary.

[FR Doc. 2010-21335 Filed 8-24-10; 11:15 am]

BILLING CODE 8010-01-P